DEPARTMENT OF HEALTH AND HUMAN SERVICES

Centers for Medicare & Medicaid Services

[CMS-7018-N]

Medicare Program; Meeting of the Advisory Panel on Medicare Education

June 22, 2010.

AGENCY: Centers for Medicare & Medicaid Services (CMS), HHS.

ACTION: Notice of meeting.

SUMMARY: This notice announces a meeting of the Advisory Panel on Medicare Education (the Panel) in accordance with the Federal Advisory Committee Act. The Panel advises and makes recommendations to the Secretary of Health and Human Services and the Administrator of the Centers for Medicare & Medicaid Services on opportunities to enhance the effectiveness of consumer education strategies concerning the Medicare program. This meeting is open to the public.

DATES: Meeting Date: Tuesday, June 22, 2010 from 8:30 a.m. to 3 p.m., eastern daylight time (e.d.t.).

Deadline for Meeting Registration, Presentations and Comments: Tuesday, June 15, 2010, 5 p.m., e.d.t.

Deadline for Requesting Special Accommodations: Tuesday, June 8, 2009, 5 p.m., e.d.t.

ADDRESSES: Meeting Location: Hilton Washington Hotel Embassy Row, 2015 Massachusetts Avenue, NW., Washington, DC 20036.

Meeting Registration, Presentations, and Written Comments: Cindy Falconi, Acting Designated Federal Official (DFO), Division of Forum and Conference Development, Office of External Affairs, Centers for Medicare & Medicaid Services, 7500 Security Boulevard, Mailstop S1-13-05, Baltimore, MD 21244-1850 or contact Ms. Falconi via e-mail at Cindy.Falconi@cms.hhs.gov.

Registration: The meeting is open to the public, but attendance is limited to the space available. Persons wishing to attend this meeting must register by contacting the DFO at the address listed in the ADDRESSES section of this notice or by telephone at number listed in the FOR FURTHER INFORMATION CONTACT section of this notice, by the date listed in the DATES section of this notice.

FOR FURTHER INFORMATION CONTACT: Cindy Falconi, (410) 786-6452. Please refer to the CMS Advisory Committees' Information Line (1-877-449-5659 toll free)/(410-786-9379 local) or the Internet (http://www.cms.hhs.gov/FACA/04_APME.asp) for additional information and updates on committee activities. Press inquiries are handled through the CMS Press Office at (202) 690-6145.

SUPPLEMENTARY INFORMATION: Section 9(a)(2) of the Federal Advisory Committee Act authorizes the Secretary of Health and Human Services (the Secretary) to establish an advisory panel if the Secretary determines that the panel is “in the public interest in connection with the performance of duties imposed * * * by law.” Such duties are imposed by section 1804 of the Social Security Act (the Act), requiring the Secretary to provide informational materials to Medicare beneficiaries about the Medicare program, and section 1851(d) of the Act, requiring the Secretary to provide for “activities * * * to broadly disseminate information to [M]edicare beneficiaries * * * on the coverage options provided under [Medicare Advantage] in order to promote an active, informed selection among such options.”

The Panel is also authorized by section 1114(f) of the Act (42 U.S.C. 1311(f)) and section 222 of the Public Health Service Act (42 U.S.C. 217a). The Secretary signed the charter establishing this Panel on January 21, 1999 (64 FR 7899, February 17, 1999) and approved the renewal of the charter on January 21, 2009 (74 FR 13442, March 27, 2009). The Panel advises and makes recommendations to the Secretary and the Administrator of the Centers for Medicare & Medicaid Services (CMS) on opportunities to enhance the effectiveness of consumer education strategies concerning the Medicare program.

The goals of the Panel are as follows:

• To provide recommendations on the development and implementation of a national Medicare education program that describes benefit options under Medicare.

• To enhance the Federal government's effectiveness in informing the Medicare consumer.

• To make recommendations on how to expand outreach to vulnerable and underserved communities, including racial and ethnic minorities, in the context of a national Medicare education program.

• To assemble an information base of best practices for helping consumers evaluate benefit options and build a community infrastructure for information, counseling, and assistance.

The current members of the Panel are: Gwendolyn T. Bronson, SHINE/SHIP Counselor, Massachusetts SHINE Program; Yanira Cruz, PhD, President and Chief Executive Officer, National Hispanic Council on Aging; Stephen P. Fera, M.B.A., Vice President, Social Mission Programs, Independence Blue Cross; Nan-Kirsten Forte, Executive Vice President, Consumer Services, WebMD; Richard C. Frank, M.D., Director, Cancer Research, Whittingham Cancer Center; Cathy C. Graeff, R.Ph., M.B.A., Partner, Sonora Advisory Group; Carmen R. Green, M.D., Professor, Anesthesiology and Associate Professor, Health, Management, and Policy, University of Michigan; Jessie C. Gruman, PhD, President, Center for Advancing Health; Cindy Hounsell, J.D., President, Women's Institute for a Secure Retirement; Kathy Hughes, Vice Chairwoman, Oneida Nation; Gail Hunt, President and Chief Executive Officer, National Alliance for Caregiving; Warren Jones, M.D., F.A.A.F.P., Executive Director, Mississippi Institute for Improvement of Geographic Minority Health; Sandy Markwood, Chief Executive Officer, National Association of Area Agencies on Aging; David W. Roberts, M.P.A., Vice President, Government Relations, Healthcare Information and Management System Society; Julie Boden Schmidt, M.S., Associate Vice President, Training and Technical Assistance, National Association of Community Health Centers; Rebecca P. Snead, Chief Executive Officer and Executive Vice President, National Alliance of State Pharmacy Associations and APME Chair; Donna Yee, PhD, Chief Executive Officer, Asian Community Center of Sacramento Valley; Deeanna Jang, Policy Director, Asian and Pacific Islander American Health Forum; Andrew Kramer, M.D., Professor of Medicine, Division of Health Care Policy and Research, University of Colorado, Denver; John Lui, PhD, M.B.A., Executive Director, Stout Vocational Rehabilitation Institute.

The agenda for the June 22, 2010 meeting will include the following:

• Recap of the previous (March 31, 2010) meeting.

• Subgroup Committee Work Summary.

• Medicare Outreach and Education Strategies.

• Public Comment.

• Listening Session with CMS Leadership.

• Next Steps.

Individuals or organizations that wish to make a 5-minute oral presentation on an agenda topic should submit a written copy of the oral presentation to the DFO at the address listed in the ADDRESSES section of this notice by the date listed in the DATES section of this notice. The number of oral presentations may be limited by the time available. Individuals not wishing to make a presentation may submit written comments to the DFO at the address listed in the ADDRESSES section of this notice by the date listed in the DATES section of this notice.

Individuals requiring sign language interpretation or other special accommodations should contact the DFO at the address listed in the ADDRESSES section of this notice by the date listed in the DATES section of this notice.

Authority: Sec. 222 of the Public Health Service Act (42 U.S.C. 217a) and sec. 10(a) of Pub. L. 92-463 (5 U.S.C. App. 2, sec. 10(a) and 41 CFR 102-3).

(Catalog of Federal Domestic Assistance Program No. 93.733, Medicare—Hospital Insurance Program; and Program No. 93.774, Medicare—Supplementary Medical Insurance Program)

Dated: May 13, 2010.
Marilyn Tavenner,
Acting Administrator, Centers for Medicare & Medicaid Services.

[FR Doc. 2010-12457 Filed 5-27-10; 8:45 am]

BILLING CODE 4120-01-P